DEPARTMENT OF HOMELAND SECURITY

Coast Guard

[USCG-2005-22837]

Nationwide Automatic Identification System, Final Programmatic Environmental Impact Statement Record of Decision

AGENCY: U.S. Coast Guard, Department of Homeland Security.

ACTION: Notice of availability.

SUMMARY: The U.S. Coast Guard (USCG) announces the availability of the Record of Decision (ROD) for the Nationwide Automatic Identification System (NAIS) final Programmatic Environmental Impact Statement (PEIS). The NAIS is being implemented pursuant to the Maritime Transportation Security Act of 2002, and will include installation of Automatic Identification System (AIS) equipment and related support systems on and around communications towers or other structures along 95,000 miles of coastline and inland rivers. The project will enable detection and identification of vessels carrying (AIS) equipment to enhance maritime domain awareness.

ADDRESSES: The ROD and final PEIS are available for viewing online at the DOT's docket management Web site: http://dms.dot.gov under docket number 22837. A copy of the ROD and final PEIS can also be obtained on the NAIS project Web site: http://www.uscg.mil/hq/g-a/AIS/ or by contacting Anita Allen, PhD, NAIS Environmental Manager, at 202-474-3292 or Anita.A.Allen@uscg.mil.

FOR FURTHER INFORMATION CONTACT: If you have questions on this notice, please call or e-mail Anita Allen, PhD, NAIS Environmental Manager, at 202-475-3292 or Anita.A.Allen@uscg.mil. If you have questions on viewing the docket, call Ms. Andrea M. Jenkins, Program Manager, Docket Operations at 202-366-0271.

SUPPLEMENTARY INFORMATION:

Background and Purpose

The Environmental Protection Agency issued a Notice of Availability of the final PEIS in the Federal Register on October 6, 2006 (71 FR 59105). As supported by the analysis in the PEIS, the USCG has decided to implement the proposed NAIS project consistent with the Preferred Alternative of using AIS based technology and a combination of the following coverage mechanisms: Establishing a combination of collocated and newly built shore-based RF sites for short-range AIS coverage; leasing commercial satellite services for long-range AIS coverage; and installing AIS equipment on existing offshore oil and gas platforms and data buoys for supplemental long-range coverage. Implementation of the proposed NAIS project through the Preferred Alternative would ensure that the USCG satisfies the purpose and need for NAIS. The Preferred Alternative implementation approach will offer siting flexibility that will help mitigate or minimize the potential for environmental impacts, and allow the USCG to maximize the use of existing infrastructure to meet coverage requirements.

Dated: October 30, 2006.
J.P. Currier,
Rear Admiral, United Stated Coast Guard, Assistant Commandant for Acquisition.

[FR Doc. E6-18653 Filed 11-3-06; 8:45 am]

BILLING CODE 4910-15-P